DEPARTMENT OF STATE

[Public Notice: 11391]

30-Day Notice of Proposed Information Collection: Foreign Diplomatic Services Applications (FDSA)

ACTION: Notice of request for public comment and submission to OMB of proposed collection information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to May 3, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Timothy R. Johnson at 3507 International Place NW, Washington, DC 20008, who may be reached on 202-895-3556 or at JohnsonTR@state.gov.

SUPPLEMENTARY INFORMATION: • Title of Information Collection: Foreign Diplomatic Services Applications (FDSA).

• OMB Control Number: 1405-0105.

• Type of Request: Revision of a Currently Approved Collection.

• Originating Office: M/OFM.

• Form Number: DS-98, DS-99, DS-100, DS-101, DS-102, DS-104, DS-1504, DS-1972D, DS-1972T, DS-2003, DS-2004, DS-2005, DS-2006, DS-2008, DS- 4139, DS-4140, DS-4284, DS-4285, DS-4298, DS-4299, DS-7675.

• Respondents: Foreign Mission Community.

• Estimated Number of Respondents: 79,095.

• Estimated Number of Responses: 79,095.

• Average Time per Response: 13 minutes.

• Total Estimated Burden Time: 18,200 hours annually.

• Frequency: For each specific event; annually.

• Obligation to Respond: Mandatory and/or Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Collection information instruments dealing with information collection from the foreign mission community, to include the electronic data compilation (e-Gov), have been combined under one information collection request, collectively referred to as the “Foreign Diplomatic Services Applications”. These information collection instruments provide the Office of Foreign Missions and the Office of the Chief of Protocol with the information necessary to provide and administer an effective and efficient benefits, privileges, and immunities program by which foreign missions and eligible applicants may apply for benefits from the U.S. Department of State, to which they are entitled pursuant to the Foreign Missions Act.

Methodology

Information may be received via Email or electronic submission through eGov at https://egov.ofm.state.gov/.

Kevin E. Bryant,
Deputy Director, Office of Directives Management, Department of State.

[FR Doc. 2021-06710 Filed 3-31-21; 8:45 am]

BILLING CODE 4710-43-P